DEPARTMENT OF ENERGY

Office of Fossil Energy; National Petroleum Council

AGENCY: Department of Energy.

ACTION: Notice of open meeting.

This notice announces a meeting of the National Petroleum Council. Federal Advisory Committee Act (Pub. L. 92-463,86 Stat. 770) requires notice of these meetings be announced in the Federal Register.

DATES: September 25, 2003, 2:30 p.m.

ADDRESSES: JW Marriott Hotel, Salons 1&2 Grand Ballroom, 1331 Pennsylvania Avenue, NW., Washington, DC.

FOR FURTHER INFORMATION CONTACT: James Slutz, U.S. Department of Energy, Office of Fossil Energy, Washington, DC 20585. Phone: 202-586-5600.

SUPPLEMENTARY INFORMATION: Purpose of the Committee: To provide advice, information, and recommendations to the Secretary of Energy on matters relating to oil and gas or the oil and gas industry. Tentative Agenda:

—Call to Order and Introductory Remarks

—Remarks by the Honorable Spencer Abraham, Secretary of Energy

—Consideration of the Proposed Report of the NPC Committee on Natural Gas.

—Consideration of Administrative Matters

—Discussion of Any Other Business Properly Brought Before the National Petroleum Council.

—Adjournment

Public Participation: The meeting is open to the public. The chairperson of the Council is empowered to conduct the meeting in a fashion that will facilitate the orderly conduct of business. Any member of the public who wishes to file a written statement to the Council will be permitted to do so, either before or after the meeting. Members of the public who wish to make oral statements pertaining to agenda items should contact James Slutz at the address or telephone number listed above. Requests must be received at least five days prior to the meeting and reasonable provisions will be made to include the presentation on the agenda. This notice is being published less than 15 days before the date of the meeting due to programmatic issues that had to be resolved prior to the meeting date.

Transcripts: Available for public review and copying at the Public Reading Room, Room IE-190, Forrestal Building, 1000 Independence Avenue, SW., Washington DC between 9 a.m. and 4 p.m., Monday through Friday, except Federal Holidays.

Issued at Washington, DC, on September 17, 2003.
Rachel Samuel,
Deputy Advisory Committee, Management Officer.

[FR Doc. 03-24347 Filed 9-24-03; 8:45 am]

BILLING CODE 6450-01-P